DEPARTMENT OF COMMERCE

National Oceanic and Atmospheric Administration

ENVIRONMENTAL PROTECTION AGENCY

Coastal Nonpoint Pollution Control Program: Approval Decision on Florida's and South Carolina's Coastal Nonpoint Pollution Control Programs

AGENCY: National Oceanic and Atmospheric Administration, U.S. Department of Commerce, and the U.S. Environmental Protection Agency.

ACTION: Notice of Intent to Approve the Florida and South Carolina Coastal Nonpoint Programs.

SUMMARY: Notice is hereby given of the intent to fully approve the Florida and South Carolina Coastal Nonpoint Pollution Control Programs (coastal nonpoint program) and of the availability of the draft decision documents fully approving the Florida and South Carolina coastal nonpoint programs. Section 6217 of the Coastal Zone Act Reauthorization Amendments (CZARA), 16 U.S.C. section 1455b, requires States and Territories with coastal zone management programs that have received approval under section 306 of the Coastal Zone Management Act, 16 U.S.C. section 1455, to develop and implement coastal nonpoint programs. Coastal States and Territories were required to submit their coastal nonpoint programs to the National Oceanic and Atmospheric Administration (NOAA) and the U.S. Environmental Protection Agency (EPA) for approval in July 1995. NOAA and EPA conditionally approved the Florida and South Carolina coastal nonpoint programs on November 18, 1997 and February 23, 1998, respectively. NOAA and EPA have drafted approval decisions describing how Florida and South Carolina have satisfied the conditions placed on their programs and therefore have a fully approved coastal nonpoint program.

NOAA and EPA are making the draft decisions for the Florida and South Carolina coastal nonpoint programs available for a 30-day public comment period. If comments are received, NOAA and EPA will consider whether such comments are significant enough to affect the decision to fully approve the programs.

Copies of the draft Approval Decisions can be found on the NOAA Web site at http://coastalmanagement.noaa.gov/czm/6217/findings.html or may be obtained upon request from: Allison Castellan, Coastal Programs Division (N/ORM3), Office of Ocean and Coastal Resource Management, NOS, NOAA, 1305 East-West Highway, Silver Spring, Maryland 20910, phone (301) 713-3155, x125, e-mail Allison.Castellan@noaa.gov.

DATES: Individuals or organizations wishing to submit comments on the draft Approval Decisions should do so by March 12, 2008.

ADDRESSES: Comments should be made to: John King, Chief, Coastal Programs Division (N/ORM3), Office of Ocean and Coastal Resource Management, NOS, NOAA, 1305 East-West Highway, Silver Spring, Maryland 20910, phone (301) 713-3155, x188, e-mail John.King@noaa.gov.

FOR FURTHER INFORMATION CONTACT: Allison Castellan, Coastal Programs Division, (N/ORM3), Office of Ocean and Coastal Resource Management, NOS, NOAA, 1305 East-West Highway, Silver Spring, Maryland 20910, phone (301) 713-3155, x125, e-mail Allison.Castellan@noaa.gov.

(Federal Domestic Assistance Catalog 11.419 Coastal Zone Management Program Administration)

Dated: February 5, 2008.
John H. Dunnigan,
Assistant Administrator for Ocean Services and Coastal Zone Management, National Oceanic and Atmospheric Administration.
Benjamin H. Grumbles,
Assistant Administrator, Office of Water, Environmental Protection Agency.

[FR Doc. 08-596 Filed 2-8-08; 8:45 am]

BILLING CODE 3510-08-M